Proclamation 8749 of November 1, 2011

National Native American Heritage Month, 2011

By the President of the United States of America

A Proclamation

From the Aleutian Islands to the Florida Everglades, American Indians and Alaska Natives have contributed immensely to our country’s heritage. During National Native American Heritage Month, we commemorate their enduring achievements and reaffirm the vital role American Indians and Alaska Natives play in enriching the character of our Nation.

Native Americans stand among America’s most distinguished authors, artists, scientists, and political leaders, and in their accomplishments, they have profoundly strengthened the legacy we will leave our children. So, too, have American Indians and Alaska Natives bravely fought to protect this legacy as members of our Armed Forces. As service members, they have shown exceptional valor and heroism on battlefields from the American Revolution to Iraq and Afghanistan. Native Americans have demonstrated time and again their commitment to advancing our common goals, and we honor their resolve in the face of years of marginalization and broken promises. My Administration recognizes the painful chapters in our shared history, and we are fully committed to moving forward with American Indians and Alaska Natives to build a better future together.

To strengthen our economy and win the future for our children, my Administration is addressing problems that have burdened Native American communities for too long. We are working to bolster economic development, expand access to affordable health care, broaden post-secondary educational opportunities, and ensure public safety and tribal justice. In June, I signed an Executive Order establishing the White House Rural Council, to strengthen Federal engagement with tribal governments and promote economic prosperity in Indian Country and across rural America. This comes in conjunction with several settlements that will put more land into the hands of tribes and deliver long-awaited trust reform to Indian Country.

To bring jobs and sustainable growth to tribal nations, my Administration is connecting tribal economies to the broader economy through transportation infrastructure and high-speed Internet, as well as by focusing on clean energy development on tribal lands. First Lady Michelle Obama’s recently launched Let’s Move! in Indian Country initiative will also redouble efforts to encourage healthy living for American Indians and Alaska Natives. These actions reflect my Administration’s ongoing commitment to progress for Native Americans, which was reaffirmed last year when we announced our support for the United Nations Declaration on the Rights of Indigenous Peoples. Through a comprehensive strategy where the Federal Government and tribal nations move forward as equal partners, we can bring real and lasting change to Indian Country.

This month, we celebrate the rich heritage and myriad contributions of American Indians and Alaska Natives, and we rededicate ourselves to supporting tribal sovereignty, tribal self-determination, and prosperity for all Native Americans. We will seek to strengthen our nation-to-nation relationship by ensuring tribal nations have a voice in shaping national policies impacting tribal communities. We will continue this dialogue at the White House Tribal Nations Conference held in Washington, D.C. next month. As we confront the challenges currently facing our tribal communities and work to ensure American Indians and Alaska Natives have meaningful opportunities to pursue their dreams, we are forging a brighter future for the First Americans and all Americans.

NOW, THEREFORE, I, BARACK OBAMA, President of the United States of America, by virtue of the authority vested in me by the Constitution and the laws of the United States, do hereby proclaim November 2011 as National Native American Heritage Month. I call upon all Americans to commemorate this month with appropriate programs and activities, and to celebrate November 25, 2011, as Native American Heritage Day.

IN WITNESS WHEREOF, I have hereunto set my hand this first day of November, in the year of our Lord two thousand eleven, and of the Independence of the United States of America the two hundred and thirty-sixth.

[FR Doc. 2011-28844

Filed 11-3-11; 11:15 am]

Billing code 3295-F2-P